SMALL BUSINESS ADMINISTRATION

Houston District Advisory Council; Public Federal Meeting

Pursuant to the Federal Advisory Committee Act, Appendix 2 of Title 5, United States code, Public Law 92-463, notice is hereby given that the U.S. Small Business Administration, Houston District Advisory Council will hold a federal public meeting on Tuesday, September 25, 2007 starting at 11 a.m. The meeting will be held at the U.S. Small Business Administration, Houston District Office, 8701 Gessner, Suite 1200, Houston, TX 77074.

The purpose of the meeting is to discuss the following topics: (1) District Office update and goals; performance and rankings; (2) 2007 Mid America Conference; (3) SBA's 7(a), 504, 8(a) programs and Patriot Express Loan Program; (4) Small Business Week and Small Business Development Center; and (5) SCORE updates.

Anyone wishing to attend or to make a presentation must contact Alfreda Crawford, Business Development Specialist, U.S. Small Business Administration, Houston District Office, 8701 Gessner, Suite 1200, Houston, TX 77074; phone (713) 773-6555; fax (202) 481-0150; E-mail: alfreda.crawford@sba.gov.

Matthew Teague,
Committee Management Officer.

[FR Doc. 07-4160 Filed 8-24-07; 8:45 am]

BILLING CODE 8025-01-M